DEPARTMENT OF COMMERCE

National Oceanic and Atmospheric Administration

50 CFR Part 648

[Docket No. 041110317-4364-02; I.D. 041805C]

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that it has approved the request of the Commonwealth of Virginia to transfer 68,214 lb (30,941 kg) of commercial summer flounder quota to the States of Maine, Connecticut, New York, Delaware, and Maryland, and the Commonwealth of Massachusetts, in accordance with the Atlantic States Marine Fisheries Commission (ASMFC) Addendum XV to the Summer Flounder, Scup, and Black Sea Bass Fishery Management Plan (FMP). The recipients of the transferred quota, and the amount transferred, are as follows: Maine—1,273 lb (577 kg); Connecticut—17,799 lb (8,073 kg); New York—13,270 lb (6,019 kg); Delaware—3,924 lb (1,780 kg); Maryland—17,983 lb (8,157 kg); and Massachusetts—13,965 lb (6,334 kg). By this action, NMFS adjusts the quotas and announces the revised commercial quota for each state involved.

DATES: Effective April 20, 2005, through December 31, 2005.

FOR FURTHER INFORMATION CONTACT: Mike Ruccio, Fishery Management Specialist, (978) 281-9104, FAX (978) 281-9135.

SUPPLEMENTARY INFORMATION: Regulations governing the summer flounder fishery are found at 50 CFR part 648. The regulations require annual specification of a commercial quota that is apportioned among the coastal states from North Carolina through Maine. The process to set the annual commercial quota and the percent allocated to each state are described in § 648.100.

The ASMFC adopted Addendum XV to the FMP in November, 2004. The Addendum is being implemented under the adaptive management and framework procedures that are part of the FMP. Addendum XV establishes a program, for 2005 and 2006, that allocates the increase in commercial summer flounder quota (from the 2004 amount) differently than the existing allocation scheme, in order to reduce the amount of fish that must be discarded as bycatch in the commercial fishery in states with relatively low summer flounder quotas. The transfer of quota from donor states will allow recipient states to marginally increase trip limits, thereby decreasing the amount of summer flounder discarded at sea.

The final rule implementing Amendment 5 to the FMP that was published on December 17, 1993 (58 FR 65936), provided a mechanism for summer flounder quota to be transferred from one state to another. Two or more states, under mutual agreement and with the concurrence of the Administrator, Northeast Region, NMFS (Regional Administrator), can transfer or combine summer flounder commercial quota under § 648.100(d). The Regional Administrator is required to consider the criteria set forth in § 648.100(d)(3) in the evaluation of requests for quota transfers or combinations. The Regional Administrator has reviewed those criteria and approved the quota transfer request submitted by the Commonwealth of Virginia.

Consistent with Addendum XV, Virginia, a designated “donor state,” has voluntarily employed the quota transfer provisions of the FMP to transfer a total of 68,214 lb (30,941 kg) to be allocated to the aforementioned recipient states, as presented in Table 1.

Table 1. Summer Flounder Commercial Quota Transfers
| Amount Transferred: lb | Amount Transferred: kg | 2005 Initial Quota¹: lb | 2005 Initial Quota¹: kg | 2005 Revised Quota: lb | 2005 Revised Quota: kg
State |  |  |  |  |  |
Virginia | -68,214 | -30,941 | 4,073,914 | 1,847,896 | 4,005,700 | 1,816,955
Maine | 1,273 | 577 | 8,547 | 3,877 | 9,820 | 4,454
Massachusetts | 13,965 | 6,335 | 1,177,554 | 534,130 | 1,191,519 | 540,465
Connecticit | 17,799 | 8,074 | 405,597 | 183,978 | 423,396 | 192,052
New York | 13,270 | 6,019 | 1,374,164 | 623,317 | 1,387,434 | 629,336
Delaware² | 3,924 | 1,780 | -51,339 | -23,287 | -47,415 | -21,507
Maryland | 17,983 | 8,157 | 347,398 | 157,577 | 365,381 | 165,734
¹ Reflects quotas as published on January 4, 2005 (70 FR 303); for Virginia, amount is adjusted by a transfer of 243,292 lb (110,355 kg) from North Carolina, effective March 4, 2005 (70 FR 11584).
² Landings of summer flounder in Delaware by vessels holding commercial Federal fisheries permits are prohibited for the 2005 calendar year.

Classification

This action is taken under 50 CFR part 648 and is exempt from review under Executive Order 12866.

Authority: 16 U.S.C. 1801 et seq.

Dated: April 19, 2005.
Alan D. Risenhoover,
Acting Director, Office of Sustainable Fisheries, National Marine Fisheries Service.

[FR Doc. 05-8222 Filed 4-20-05; 2:30 pm]

BILLING CODE 3510-22-S